DEPARTMENT OF ENERGY

Federal Energy Regulatory Commission

Combined Notice of Filings #1

Take notice that the Commission received the following electric rate filings:

Docket Numbers: ER10-1325-002; ER12-1946-002; ER11-2080-002; ER10-1333-002; ER12-1958-002; ER10-1335-002.

Applicants: CinCap V LLC, Duke Energy Beckjord, LLC, Duke Energy Commercial Asset Management,, Duke Energy Commercial Enterprises, Inc., Duke Energy Piketon, LLC, Duke Energy Retail Sales, LLC.

Description: Triennial Market Power Analysis Update for the Southeast Region of Duke Energy Corporation MBR Sellers.

Filed Date: 6/30/14.

Accession Number: 20140630-5381.

Comments Due: 5 p.m. ET 8/29/14.

Docket Numbers: ER10-1511-005; ER10-2231-004; ER10-1714-005; ER10-2011-007.

Applicants: Louisville Gas & Electric Company, Kentucky Utilities Company, LG&E Energy Marketing Inc., PPL EnergyPlus, LLC.

Description: Triennial Market Power Update of the PPL Southeast Companies.

Filed Date: 6/30/14.

Accession Number: 20140630-5370.

Comments Due: 5 p.m. ET 8/29/14.

Docket Numbers: ER10-1556-006.

Applicants: Longview Power.

Description: Triennial Market Power Analysis of Longview Power, LLC.

Filed Date: 6/30/14.

Accession Number: 20140630-5372.

Comments Due: 5 p.m. ET 8/29/14.

Docket Numbers: ER10-1838-006; ER10-1915-006; ER13-752-005; ER10-1857-006; ER10-1899-006; ER10-1902-006; ER10-1903-006; ER10-1932-006; ER10-1935-006; ER10-1852-009; ER10-1963-006; ER14-1630-003; ER10-1967-006; ER10-1968-006; ER11-4462-010; ER10-1971-017; ER10-1973-006; ER10-1951-007; ER10-1975-015; ER10-1974-015; ER10-1986-006; ER10-1990-006; ER10-1993-006.

Applicants: Backbone Mountain Windpower LLC, Bayswater Peaking Facility, LLC, Energy Storage Holdings, LLC, FPL Energy Cape, LLC, FPL Energy Illinois Wind, LLC, FPL Energy Marcus Hook, L.P., FPL Energy MH50, L.P., FPL Energy Wyman, LLC, FPL Energy Wyman IV, LLC, Florida Power & Light Company, Jamaica Bay Peaking Facility, LLC, Manuta Creek Solar, LLC, Meyersdale Windpower LLC, Mill Run Windpower, LLC, NEPM II, LLC, NextEra Power Marketing, LLC, NextEra Energy Seabrook, LLC, NextEra Energy Services Massachusetts, LLC, North Jersey Energy Associates, A Limited Partnership, Northeast Energy Associates, A Limited Partnership, Pennsylvania Windfarms, Inc., Somerset Windpower, LLC, Waymart Wind Farm, L.P.

Description: Northeast Region Triennial Market Power Update of the NextEra Companies.

Filed Date: 6/30/14.

Accession Number: 20140630-5375.

Comments Due: 5 p.m. ET 8/29/14.

Docket Numbers: ER10-1852-008; ER10-1971-016; ER11-4462-009.

Applicants: Florida Power & Light Company.

Description: NextEra Companies' Triennial Market Power Update for the Southeast Region.

Filed Date: 6/30/14.

Accession Number: 20140630-5373.

Comments Due: 5 p.m. ET 8/29/14.

Docket Numbers: ER10-1945-003; ER10-1942-010; ER10-2042-014; ER10-1938-009; ER13-1670-003; ER10-1934-008; ER10-1893-008; ER10-1892-003; ER10-1886-003; ER10-1872-003; ER10-1871-003; ER13-1406-001; ER10-1862-008; ER10-1859-003.

Applicants: Auburndale Peaker Energy Center, LLC, Calpine Construction Finance Co., L.P., Calpine Energy Services, L.P., Calpine Power America—CA, LLC,CES Marketing IX, LLC,CES Marketing V, LLC,CES Marketing X, LLC, Columbia Energy LLC, Decatur Energy Center, LLC,MOBILE ENERGY LLC, Morgan Energy Center, LLC, Osprey Energy Center, LLC, Power Contract Financing, L.L.C., Santa Rosa Energy Center, LLC, Auburndale Peaker Energy Center, L.L.C.

Description: Notification of Change in Status of the Calpine Southeast MBR Sellers.

Filed Date: 6/30/14.

Accession Number: 20140630-5383.

Comments Due: 5 p.m. ET 8/29/14.

Docket Numbers: ER10-2585-004; ER14-1569-001; ER10-2619-004; ER10-2616-006; ER11-4400-003; ER14-833-002; ER10-2617-004; ER10-2613-004.

Applicants: Casco Bay Energy Company, LLC, Dynegy Energy Services, LLC, Dynegy Kendall Energy, LLC, Dynegy Marketing and Trade, LLC, Illinois Power Marketing Company, Ontelaunee Power Operating Company, LLC, Sithe/Independence Power Partners, L.P., Dynegy Power Marketing, Inc. & Dynegy Ma.

Description: Updated Market Power Analysis of the Dynegy Northeast MBR Sellers.

Filed Date: 6/30/14.

Accession Number: 20140630-5378.

Comments Due: 5 p.m. ET 8/29/14.

Docket Numbers: ER10-2794-016; ER10-2849-015; ER11-2028-016; ER12-1825-014; ER13-1680-002; ER11-3642-014.

Applicants: EDF Trading North America, LLC, EDF Industrial Power Services (NY), LLC, EDF Industrial Power Services (OH), LLC, EDF Industrial Power Services (CA), LLC, Tanner Street Generation, LLC, EDF Industrial Power Services (IL), LLC.

Description: Updated Market Power Analysis for the Northeast Region of EDF Trading North America, LLC, et al.

Filed Date: 6/30/14.

Accession Number: 20140630-5374.

Comments Due: 5 p.m. ET 8/29/14.

Docket Numbers: ER10-2848-005; ER11-1939-007; ER11-2754-007; ER12-999-005; ER12-1002-005; ER12-1005-005; ER12-1006-005; ER12-1007-006.

Applicants: AP Holdings, LLC,AP Gas & Electric (IL), LLC,AP Gas & Electric (MD), LLC,AP Gas & Electric (NJ), LLC,AP Gas & Electric (NY), LLC,AP Gas & Electric (OH), LLC,AP Gas & Electric (PA), LLC,AP Gas & Electric (TX), LLC.

Description: Updated Market Power Analysis for the Northeast Region of AP Holdings Sellers.

Filed Date: 6/30/14.

Accession Number: 20140630-5382.

Comments Due: 5 p.m. ET 8/29/14.

Docket Numbers: ER10-2985-015; ER10-3049-016; ER10-3051-016.

Applicants: Champion Energy Marketing LLC, Champion Energy Services, LLC, Champion Energy, LLC.

Description: Updated Market Power Analysis for the Northeast Region of Champion Energy Marketing LLC, et al.

Filed Date: 6/30/14.

Accession Number: 20140630-5379.

Comments Due: 5 p.m. ET 8/29/14.

Docket Numbers: ER11-2292-010; ER11-3942-009; ER11-2293-010; ER12-2447-008.

Applicants: Brookfield Energy Marketing Inc., Brookfield Energy Marketing LP, Brookfield Renewable Energy Marketing US, Brookfield Smoky Mountain Hydropower LLC.

Description: Updated Market Power Analysis for the Southeast Region of the Brookfield Companies.

Filed Date: 6/30/14.

Accession Number: 20140630-5388.

Comments Due: 5 p.m. ET 8/29/14.

Docket Numbers: ER11-4027-004; ER11-4028-004.

Applicants: James River Genco, LLC, Portsmouth Genco, LLC.

Description: Updated Market Power Analysis for the Northeast Region of James River Genco, LLC, et al.

Filed Date: 6/30/14.

Accession Number: 20140630-5376.

Comments Due: 5 p.m. ET 8/29/14.

Docket Numbers: ER12-540-006; ER12-539-006; ER11-2534-005.

Applicants: APDC, Inc., Atlantic Power Energy Services (US) LLC, Morris Cogeneration, LLC.

Description: Triennial Market Power Report for the Northeast Region of APDC, Inc., et al.

Filed Date: 6/30/14.

Accession Number: 20140630-5380.

Comments Due: 5 p.m. ET 8/29/14.

Docket Numbers: ER12-1725-005.

Applicants: Red Oak Power, LLC.

Description: Updated Market Power Analysis for the Northeast Region of Red Oak Power, LLC.

Filed Date: 6/30/14.

Accession Number: 20140630-5377.

Comments Due: 5 p.m. ET 8/29/14.

Docket Numbers: ER12-2068-005; ER10-2460-006; ER10-2461-006; ER12-682-007; ER10-2463-006; ER11-2201-010; ER10-2464-003; ER13-1585-003; ER13-17-004; ER12-1311-006; ER10-2466-007; ER11-4029-006.

Applicants: Blue Sky East, LLC, Canandaigua Power Partners, LLC, Canandaigua Power Partners II, LLC, Erie Wind, LLC, Evergreen Wind Power, LLC, Evergreen Wind Power III, LLC, First Wind Energy Marketing, LLC, Longfellow Wind, LLC, Niagara Wind Power, LLC, Stetson Holdings, LLC, Stetson Wind II, LLC, Vermont Wind, LLC.

Description: Third Supplement to December 31, 2013 Market Power Update for the Northeast Region and Notice of Change in Status of Blue Sky East, LLC, et al.

Filed Date: 6/27/14.

Accession Number: 20140627-5227.

Comments Due: 5 p.m. ET 7/18/14.

Docket Numbers: ER13-2102-002; ER11-3620-006; ER12-1432-004; ER11-2882-007; ER12-1435-004; ER12-1431-004; ER12-1434-004.

Applicants: Lyonsdale Biomass, LLC, ReEnergy Ashland LLC, ReEnergy Black River LLC, ReEnergy Fort Fairfield LLC, ReEnergy Livermore Falls LLC, ReEnergy Sterling CT Limited Partnership, ReEnergy Stratton LLC, ReEnergy Black River Generation, LLC.

Description: Triennial Market Power Report of the ReEnergy MBR Sellers.

Filed Date: 6/30/14.

Accession Number: 20140630-5384.

Comments Due: 5 p.m. ET 8/29/14.

Docket Numbers: ER14-1653-001.

Applicants: Southwest Power Pool, Inc.

Description: Integrated Marketplace Filing Deficiency Response to be effective 3/1/2014.

Filed Date: 7/2/14.

Accession Number: 20140702-5002.

Comments Due: 5 p.m. ET 7/23/14.

Docket Numbers: ER14-2045-001.

Applicants: Duke Energy Florida, Inc., Duke Energy Progress, Inc., Duke Energy Carolinas, LLC.

Description: Amended OATT Attachment C-1 Amendment to be effective 6/1/2014.

Filed Date: 7/2/14.

Accession Number: 20140702-5026.

Comments Due: 5 p.m. ET 7/23/14.

Docket Numbers: ER14-2185-001.

Applicants: EFS Parlin Holdings, LLC.

Description: Amendment to Revision of MBR Tariff to be effective 7/2/2014.

Filed Date: 7/1/14.

Accession Number: 20140701-5216.

Comments Due: 5 p.m. ET 7/22/14.

Docket Numbers: ER14-2350-000.

Applicants: The United Illuminating Company.

Description: UI CLP Pootatuck Engineering Agreement to be effective 7/2/2014.

Filed Date: 7/2/14.

Accession Number: 20140702-5048.

Comments Due: 5 p.m. ET 7/23/14.

Docket Numbers: ER14-2351-000.

Applicants: Massachusetts Electric Company.

Description: 2014 Rate Update Filing for Massachusetts Electric Borderline Sales Agreement to be effective 8/1/2013.

Filed Date: 7/2/14.

Accession Number: 20140702-5063.

Comments Due: 5 p.m. ET 7/23/14.

Docket Numbers: ER14-2352-000.

Applicants: PJM Interconnection, L.L.C.

Description: Service Agreement No. 3884; Queue No. X4-039 to be effective 6/6/2014.

Filed Date: 7/2/14.

Accession Number: 20140702-5068.

Comments Due: 5 p.m. ET 7/23/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2014..
Nathaniel J. Davis, Sr.,
Deputy Secretary.

[FR Doc. 2014-16377 Filed 7-11-14; 8:45 am]

BILLING CODE 6717-01-P